DEPARTMENT OF COMMERCE

National Oceanic and Atmospheric Administration

RIN: 0648-XG35

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, April 1-7, 2008, in Anchorage, AK.

DATES: The meetings will be held on April 1, 2008 through April 7, 2008. See SUPPLEMENTARY INFORMATION for specific dates and times.

ADDRESSES: The meetings will be held at the Hilton Hotel, 500 W 3rd Avenue, Anchorage, AK 99501.

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Tuesday, April 1 continuing through Tuesday April 7, 2008. The Council's Advisory Panel (AP) will begin at 8 a.m., Monday, March 31 and continue through Friday April 4. The Scientific and Statistical Committee (SSC) will begin at 8 a.m. on Monday, March 31 and continue through Wednesday March 2, 2008. The Enforcement Committee will meet Tuesday, April 2, from 1 p.m. to 5 p.m. in the Iliamna Room. The Ecosystem Committee will meet Wednesday, April 2, from 5:30 p.m. to 8 p.m. in the Dillingham/Katmai Room. The Council will meet Tuesday, April 8, with Alaska Board of Fisheries, and may discuss any of the items listed in this notice, or other issues involving state/federal authorities for parallel fisheries or Board proposals with federal waters relevance. All meetings are open to the public, except executive sessions.

Council Plenary Session: The agenda for the Council's plenary session will include the following issues. The Council may take appropriate action on any of the issues identified.

1. Reports

Executive Director's Report

NMFS Management Report (NMFS Enforcement/NOAA General Counsel)

Alaska Department of Fish & Game Report

U.S. Coast Guard Report

U.S. Fish & Wildlife Service Report

Protected Species Report (including Aleutian Island Pollock EFP report)

2. Steller Sea lion (SSL) Issues: Review final SSL Recovery Plan; SSL Mitigation Committee report on proposals and preliminary recommendations on measures.

3. BSAI Crab Issues: Report from Crab Committee; Refine problem statement and elements/options for analysis of 90/10 modifications; BSAI Crab Arbitrator Immunity discussion paper; Final action on BSAI Crab Arbitration Regulations; Final action on BSAI “C” Share active participation; Final action on St. George protection measures.

4. Gulf of Alaska Groundfish Issues: Initial review of GOA sideboards for BSAI Crab vessels.

5. License Limitation Program (LLP) Trawl Recency: Final action to eliminate latent trawl licenses/area endorsements.

6. Observer Program: Receive Observer Advisory Committee report; Final action on Observer Program regulation package.

7. Halibut Charter Management: Initial review of Charter Halibut 2C/3A Catch Sharing Plan analysis; Report on the Charter Halibut Logbook Program.

8. Bycatch Issues: Preliminary review of BSAI Salmon Bycatch Environmental Impact Statement; receive scoping report; refine problem statement/alternatives; Discussion paper on GOA Crab and Salmon Bycatch.

9. Groundfish Management: Review EFP application for Trawl Salmon Excluder; Review EFP application for CGOA Rockfish Electronic Monitoring (Phase II); Initial review of Vessel Monitoring System Exemption for dinglebar gear; Final action on GOA 'Other Species' ABC/OFL specifications; Initial review of 4E Seabird Avoidance measures (T).

10. AFA Issue: Receive action on Amendment 62/62 (single geographic location) and affirm or repeal. (T)

11. Scallop Management: Review Stock Assessment Fishery Evaluation report.

12. Ecosystem Based Management: Report from Ecosystem Committee; preliminary review of Arctic FMP. (Council only)

13. Staff Tasking: Review Committees and tasking.

14. Other Business

The SSC agenda will include the following issues:

1. Steller Sea lions

2. GOA Sideboards

3. Halibut Charter

4. Salmon Bycatch

5. Groundfish Management

6. Scallop SAFE

7. Ecosystem Management

8. Crab Model Review

The Advisory Panel will address most of the same agenda issues as the Council, except for #1 reports. The Agenda is subject to change, and the latest version will be posted at http://www.fakr.noaa.gov/npfmc/.

Special Accommodations

These meetings are physically accessible to people with disabilities. Requests for sign language interpretation or other auxiliary aids should be directed to Gail Bendixen at (907) 271-2809 at least 7 working days prior to the meeting date.

Dated: March 11, 2008.
Tracey L. Thompson,
Acting Director, Office of Sustainable Fisheries, National Marine Fisheries Service.

[FR Doc. E8-5207 Filed 3-14-08; 8:45 am]

BILLING CODE 3510-22-S